DEPARTMENT OF ENERGY

Federal Energy Regulatory Commission

[Project No. 7387-019]

Erie Boulevard Hydropower, L.P.; Notice of Application Tendered for Filing With the Commission, Soliciting Additional Study Requests, and Establishing Procedural Schedule for Relicensing and a Deadline for Submission of Final Amendments

October 24, 2003.

Take notice that the following hydroelectric license application has been filed with the Commission and is available for public inspection.

a. Type of Application: New Major License.

b. Project No.: 7387-019.

c. Date filed: October 20, 2003.

d. Applicant: Erie Boulevard Hydropower, L.P.

e. Name of Project: Piercefield Hydroelectric Project.

f. Location: On the Raquette River, in St. Lawrence and Franklin Counties, New York.

The project does not occupy federal lands.

g. Filed Pursuant to: Federal Power Act 16 U.S.C. 791(a)-825(r).

h. Applicant Contacts: Mr. Jerry L. Sabattis, P.E., Licensing Coordinator, Erie Boulevard Hydropower, L.P., 225 Greenfield Parkway, Liverpool, New York, 13088, telephone (315) 413-2787 and Mr. Samuel S. Hirschey, P.E., Manager, Licensing, Compliance, and Project Properties, 225 Greenfield Parkway, Liverpool, New York, 13088, telephone (315) 413-2790.

i. FERC Contact: Janet Hutzel, janet.hutzel@ferc.gov (202) 502-8675.

j. Cooperating Agencies: We are asking Federal, state, and local agencies and Indian tribes with jurisdiction and/or special expertise with respect to environmental issues to cooperate with us in the preparation of the environmental document. Agencies who would like to request cooperating status should follow the instructions for filing comments described in item k below.

k. Pursuant to Section 4.32(b)(7) of 18 CFR of the Commission's regulations, if any resource agency, Indian tribe, or person believes that an additional scientific study should be conducted in order to form an factual basis for complete analysis of the application on its merit, the resource agency, Indian tribe, or person must file a request for a study with the Commission not later than 60 days after the application filing date and serve a copy of the request on the applicant.

l. Deadline for filing additional study requests and requests for cooperating agency status: December 19, 2003.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link.

m. The application is not ready for environmental analysis at this time.

n. Project Description: The Piercefield Hydroelectric Project consists of the following existing facilities: (a) A dam comprising of a 495-foot-long concrete retaining wall/dike on the right shoreline, a 620-foot-long concrete and masonry stone retaining wall located along the left shoreline, a 118-foot-long stop log spillway, and a 294-foot-long, 22-foot-high ogee spillway section; (b) a 110-foot-long concrete masonry forebay, having a varying width of 40 feet to 55 feet with an average depth of 17 feet; (c) a reservoir having a surface area of 370 acres at normal pool elevation of 1542.0 feet m.s.1.; (d) a powerhouse containing 3 generating units having a total rated capacity of 2,700 kW; (e) 600-V and 2.4-kV generator leads; (f) 600-V/46-kV, 2.5-MVA and the 2.4/46-kV, 2.5-MVA three-phase transformer banks; (g) 3.84-mile, 46-kV transmission line; and (h) appurtenant facilities.

o. A copy of the application is on file with the Commission and is available for public inspection. This filing may also be viewed on the web at http://www.ferc.gov using the “eLibrary” link—select “Docket #” and follow the instructions. For assistance, please contact FERC Online Support at FERCOnlineSupport@ferc.gov or toll free at (866) 208-3676 or for TTY, contact (202) 502-8659. A copy is also available for inspection and reproduction at the address in item h above.

p. You may also register online at http://www.ferc.gov/esubscribenow.htm to be notified via email of new filings and issuances related to this or other pending projects. For assistance, contact FERC Online Support. To view upcoming FERC events, go to www.ferc.gov and click on “View Entire Calendar”.

With this notice, we are initiating consultation with the New York State Historic Preservation Officer (SHPO), as required by 106, National Historic Preservation Act, and the regulations of the Advisory Council on Historic Preservation, 36, CFR, at 800.4.

r. Procedural schedule and final amendments: The application will be processed according to the following Hydro Licensing Schedule. Revisions to the schedule will be made as appropriate.

Issue Acceptance or Deficiency Letter—February 2004

Issue Scoping Document for comments—May 2004

Notice of Application is Ready for Environmental Analysis—September 2004

Notice of the availability of the EA—February 2005

Ready for Commission's decision on the application—June 2005

Unless substantial comments are received in response to the EA, staff intends to prepare a single EA in this case. If substantial comments are received in response to the EA, a final EA will be prepared with the following modifications to the schedule.

Notice of the availability of the final EA—June 2005

Ready for Commission's decision on the application—August 2005

Final amendments to the application must be filed with the Commission no later than 30 days from the issuance date of the notice of ready for environmental analysis.

Magalie R. Salas,
Secretary.

[FR Doc. E3-00148 Filed 10-30-03; 8:45 am]

BILLING CODE 6717-01-P